DEPARTMENT OF ENERGY

Federal Energy Regulatory Commission

Combined Notice of Filings #1

Take notice that the Commission received the following exempt wholesale generator filings:

Docket Numbers: EG23-204-000.

Applicants: TRS Fuel Cell, LLC.

Description: TRS Fuel Cell, LLC submits Notice of Self-Certification of Exempt Wholesale Generator Status.

Filed Date: 6/21/23.

Accession Number: 20230621-5105.

Comment Date: 5 p.m. ET 7/12/23.

Take notice that the Commission received the following Complaints and Compliance filings in EL Dockets:

Docket Numbers: EL23-77-000.

Applicants: Parkway Generation Operating LLC and Parkway Generation Sewaren Urban Renewal Entity LLC v. PJM Interconnection, L.L.C.

Description: Complaint of Parkway Generation Operating LLC and Parkway Generation Sewaren Urban Renewal Entity LLC v. PJM Interconnection, L.L.C.

Filed Date: 6/16/23.

Accession Number: 20230616-5227.

Comment Date: 5 p.m. ET 7/17/23.

Take notice that the Commission received the following electric rate filings:

Docket Numbers: ER13-1910-003; ER16-1018-002; ER20-2771-001.

Applicants: Guzman Western Slope LLC, Guzman Renewable Energy Partners LLC, Guzman Power Markets.

Description: Triennial Market Power Analysis for Northeast Region of Guzman Energy LLC et al.

Filed Date: 6/20/23.

Accession Number: 20230620-5300.

Comment Date: 5 p.m. ET 8/21/23.

Docket Numbers: ER23-2001-001.

Applicants: Sagebrush ESS II, LLC

Description: Tariff Amendment: Amendment to Petition Requesting Market-Based Rate Authorization to be effective 7/30/2023.

Filed Date: 6/21/23.

Accession Number: 20230621-5077.

Comment Date: 5 p.m. ET 7/12/23.

Docket Numbers: ER23-2185-000.

Applicants: CE-Shady Farm LLC.

Description: Petition of CE-Shady Farm LLC for Limited Waiver, or in the Alternative for Remedial Relief, Shortened Comment Period, and Expedited Action.

Filed Date: 6/16/23.

Accession Number: 20230616-5231.

Comment Date: 5 p.m. ET 7/7/23.

Docket Numbers: ER23-2199-000.

Applicants: Southwest Power Pool, Inc.

Description: § 205(d) Rate Filing: 1978R12 Evergy Kansas Central, Inc. NITSA NOA to be effective 9/1/2023.

Filed Date: 6/21/23.

Accession Number: 20230621-5026.

Comment Date: 5 p.m. ET 7/12/23.

Docket Numbers: ER23-2200-000.

Applicants: Electra Sparks, LLC.

Description: Baseline eTariff Filing: Market-Based Rate Tariff Application to be effective 6/22/2023.

Filed Date: 6/21/23.

Accession Number: 20230621-5037.

Comment Date: 5 p.m. ET 7/12/23.

Docket Numbers: ER23-2201-000.

Applicants: Star Light and Power LLC.

Description: Baseline eTariff Filing: Market-Based Rate Tariff Application to be effective 6/22/2023.

Filed Date: 6/21/23.

Accession Number: 20230621-5038.

Comment Date: 5 p.m. ET 7/12/23.

Docket Numbers: ER23-2202-000.

Applicants: PJM Interconnection, L.L.C.

Description: § 205(d) Rate Filing: Original ISA, Service Agreement No. 6958; Queue No. AE2-256 to be effective 5/23/2023.

Filed Date: 6/21/23.

Accession Number: 20230621-5040.

Comment Date: 5 p.m. ET 7/12/23.

Docket Numbers: ER23-2203-000.

Applicants: Wildflower Solar, LLC.

Description: Baseline eTariff Filing: Wildflower Solar LLC—MBR Application to be effective 8/21/2023.

Filed Date: 6/21/23.

Accession Number: 20230621-5041.

Comment Date: 5 p.m. ET 7/12/23.

Docket Numbers: ER23-2204-000.

Applicants: Southwest Power Pool, Inc.

Description: § 205(d) Rate Filing: 2066R12 Evergy Kansas Central, Inc. NITSA NOA to be effective 9/1/2023.

Filed Date: 6/21/23.

Accession Number: 20230621-5080.

Comment Date: 5 p.m. ET 7/12/23.

Docket Numbers: ER23-2205-000.

Applicants: PJM Interconnection, L.L.C.

Description: § 205(d) Rate Filing: Original ISA, SA No. 6955; Queue No. AF1-136 to be effective 5/22/2023.

Filed Date: 6/21/23.

Accession Number: 20230621-5088.

Comment Date: 5 p.m. ET 7/12/23.

Docket Numbers: ER23-2206-000.

Applicants: PJM Interconnection, L.L.C.

Description: Tariff Amendment: Notice of Cancellation of WMPA, SA No. 4794; Queue No. AC1-116 re: breach to be effective 8/21/2023.

Filed Date: 6/21/23.

Accession Number: 20230621-5104.

Comment Date: 5 p.m. ET 7/12/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: June 21, 2023.
Debbie-Anne A. Reese,
Deputy Secretary.

[FR Doc. 2023-13609 Filed 6-26-23; 8:45 am]

BILLING CODE 6717-01-P